FEDERAL COMMUNICATIONS COMMISSION

47 CFR Part 64

[CG Docket Nos. 13-24 and 03-123; FCC 19-11; FRS 16972]

IP CTS Improvements and Program Management

AGENCY: Federal Communications Commission.

ACTION: Final rule; correction.

SUMMARY: This document corrects the final rules portion of a Federal Register document published on March 8, 2019. That Federal Register document inadvertently removed paragraphs (a)(4)(i) through (iii) from section 64.611 of the Federal Communications Commission's rules for telecommunications relay services.

DATES: Effective on August 26, 2020.

FOR FURTHER INFORMATION CONTACT: Michael Scott, Consumer and Governmental Affairs Bureau, (202) 418-1264, or email Michael.Scott@fcc.gov.

SUPPLEMENTARY INFORMATION: This document corrects the final rules document published at 84 FR 8457, March 8, 2019.

List of Subjects in 47 CFR Part 64

Individuals with disabilities, Telecommunications, Telecommunications relay services.

Federal Communications Commission.
Marlene Dortch,
Secretary, Office of the Secretary.

Final Rules

Accordingly, 47 CFR part 64 is corrected by making the following correcting amendments:

PART 64—MISCELLANEOUS RULES RELATING TO COMMON CARRIERS

1. The authority citation for part 64 continues to read as follows:

Authority: 47 U.S.C. 154, 201, 202, 217, 218, 220, 222, 225, 226, 227, 227b, 228, 251(a), 251(e), 254(k), 262, 403(b)(2)(B), (c), 616, 620, 1401-1473, unless otherwise noted; Pub. L. 115-141, Div. P, sec. 503, 132 Stat. 348, 1091.

2. Amend § 64.611 by adding paragraphs (a)(4)(i), (ii), and (iii) to read as follows:

§ 64.611 Internet-based TRS registration.

(a) * * *

(4) * * *

(i) Each VRS provider must obtain, from each new and existing registered internet-based TRS user, consent to transmit the registered internet-based TRS user's information to the TRS User Registration Database. Prior to obtaining consent, the VRS provider must describe to the registered internet-based TRS user, using clear, easily understood language, the specific information being transmitted, that the information is being transmitted to the TRS User Registration Database to ensure proper administration of the TRS program, and that failure to provide consent will result in the registered internet-based TRS user being denied service. VRS providers must obtain and keep a record of affirmative acknowledgment by every registered internet-based TRS user of such consent.

(ii) VRS providers must, for existing registered internet-based TRS users, submit the information in paragraph (a)(3) of this section to the TRS User Registration Database within 60 days of notice from the Commission that the TRS User Registration Database is ready to accept such information. Calls from or to existing registered internet-based TRS users that have not had their information populated in the TRS User Registration Database within 60 days of notice from the Commission that the TRS User Registration Database is ready to accept such information shall not be compensable.

(iii) VRS providers must submit the information in paragraph (a)(4) of this section upon initiation of service for users registered after 60 days of notice from the Commission that the TRS User Registration Database is ready to accept such information.

* * * * *

[FR Doc. 2020-17003 Filed 8-25-20; 8:45 am]

BILLING CODE 6712-01-P